DEPARTMENT OF COMMERCE

National Oceanic and Atmospheric Administration

RIN 0648-XC062

Draft 2012 Marine Mammal Stock Assessment Reports

AGENCY: National Marine Fisheries Service (NMFS), National Oceanic and Atmospheric Administration (NOAA), Commerce.

ACTION: Notification of availability; response to comments.

SUMMARY: NMFS reviewed the Alaska, Atlantic, and Pacific regional marine mammal stock assessment reports (SARs) in accordance with the Marine Mammal Protection Act, and solicited public comment on draft 2012 SARs. Subsequently, SARs for ten stocks of marine mammals in the Atlantic region have been updated with revised abundance estimates and some corrections to bycatch estimates. These ten reports are final and available to the public.

ADDRESSES: The 2012 final SARs and supporting documentation are available in electronic form via the Internet at http://www.nmfs.noaa.gov/pr/sars/species.htm. Copies of the Atlantic SARs may be requested from Gordon Waring, Northeast Fisheries Science Center, 166 Water St., Woods Hole, MA 02543.

FOR FURTHER INFORMATION CONTACT: Shannon Bettridge, Office of Protected Resources, 301-427-8402, Shannon.Bettridge@noaa.gov; or Gordon Waring, 508-495-2311, Gordon.Waring@noaa.gov.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every three years for non-strategic stocks. The term strategic stock means a marine mammal stock: (A) For which the level of direct human-caused mortality exceeds the potential biological removal level; (B) which, based on the best available scientific information, is declining and is likely to be listed as a threatened species under the Endangered Species Act within the foreseeable future; or (C) which is listed as a threatened species or endangered species under the Endangered Species Act. NMFS and the FWS are required to revise a SAR if the status of the stock has changed or can be more accurately determined. NMFS, in conjunction with the Alaska, Atlantic, and Pacific independent Scientific Review Groups (SRGs), reviewed the status of marine mammal stocks as required and revised reports in the Alaska, Atlantic, and Pacific regions to incorporate new information. NMFS solicited public comments on the draft 2012 SARs on August 7, 2012 (77 FR 47043); the 90-day public comment period closed on November 5, 2012.

Subsequent to soliciting public comment on the draft 2012 SARs, NMFS revised the 2011 abundance estimates and the 2010 northeast sink gillnet serious injury and mortality estimates for several Atlantic marine mammal stocks after discovering errors based upon further review of the abundance estimation methods and upon receiving updated bycatch data. This new information prompted the agency to correct and revise the SARs for the following marine mammal stocks affected by these updates: fin whale, western North Atlantic stock; sei whale, Nova Scotia stock; minke whale Canadian east coast stock; sperm whale, North Atlantic stock; Cuvier's beaked whale, western North Atlantic stock; Gervais' beaked whale, western North Atlantic stock; Sowerby's beaked whale, western North Atlantic stock; Risso's dolphin, western North Atlantic stock; Atlantic white-sided dolphin, western North Atlantic stock; and harbor porpoise, Gulf of Maine/Bay of Fundy stock. NMFS solicited public comment on the revised draft 2012 SARs for these ten stocks (78 FR 3399, January 16, 2013). The public comment period on the revised reports closed on April 16, 2013. This notice announces the availability of the final 2012 reports for the ten stocks identified above; the reports are available on NMFS' Web site (see ADDRESSES).

Comments and Responses

NMFS received comments on the ten revised draft Atlantic SARs from the Marine Mammal Commission (Commission), the Humane Society of the United States and the Center for Biological Diversity, two individuals, and the National Park Service.

Comment 1: The Commission recommends that NMFS expand the report for the Gulf of Maine harbor porpoise either to include a trend analysis and explanation, or to describe the reasons that the analysis and explanation cannot be provided. If the latter, then the Service also should explain how it plans to rectify the problem(s).

Response: The trend section of the report was revised to include the following text: “A trend analysis has not been conducted for this stock. The statistical power to detect a trend in abundance for this stock is poor due to the relatively imprecise abundance estimates and long survey interval. For example, the power to detect a precipitous decline in abundance (i.e., 50% decrease in 15 years) with estimates of low precision (e.g., CV > 0.30) remains below 80% (alpha = 0.30) unless surveys are conducted on an annual basis (Taylor et al. 2007).”

Comment 2: The Commission recommends that NMFS contact Canadian officials to (1) determine the feasibility of an analysis of port catch levels to estimate the number of harbor porpoises caught in the Canadian Bay of Fundy sink gillnet fishery since 2002, and (2) pursue the development of a reliable means for estimating harbor porpoise bycatch in the Canadian Bay of Fundy.

Response: As recommended by the Commission, NMFS Northeast Fisheries Science Center Protected Species Branch is contacting Canadian Department of Fisheries and Oceans officials to obtain information on the status of the fishery and harbor porpoise bycatch.

Comment 3: The “Other Mortality” section of the white-sided dolphin SAR cites Bogomolni as finding that 21 percent of strandings of this species were disease-related. We did not have access to this publication, but if the nature of the diseases affecting these animals was determined, it would be useful to specify whether all of them died as a result of the same or a variety of pathogens. Since many pollutants compromise immune systems of animals, patterns in cause of death are helpful to provide insight into environmental health and/or threats to the species.

Response: The focus of the Bogomolni et al. (2010) publication was to categorize stranding mortalities into broad diagnoses such as disease, human-interaction, mass-stranding, etc. The authors mention that the most frequently found disease processes were bacterial pneumonia and sepsis/bacteremia secondary to pyoderma, but, other than mentioning a few specific disease findings, do not detail or analyze frequency of all the diseases found in each species. The Bogomolni et al. 2010 paper is open access and available at http://www.int-res.com/articles/dao_oa/d088p143.pdf. We have rewritten the sentence slightly to read: “In an analysis of mortality causes of stranded marine mammals on Cape Cod and southeastern Massachusetts between 2000 and 2006, Bogomolni et al. (2010) found 69% (46 of 67) of stranded white-sided dolphins were involved in mass-stranding events with no significant findings, and 21% (14 of 67) were classified as disease related.”

Comment 4: The Humane Society of the U.S. and the Center for Biological Diversity commented that the Atlantic Scientific Review Group (SRG) was not consulted prior to NMFS using these revised abundance and bycatch estimates for management purposes. The commenters believe the errors in computation and the proposed changes to the SARs should have been brought to the attention of the SRG prior to being used in management or presented to the public as part of any take reduction team process. In the future, if NMFS is considering amending a SAR after a draft was released for public comment, it should first consult with the appropriate SRG prior to using a revised SAR for purposes of management of a stock.

Response: The issues raised by the Humane Society of the U.S. and the Center for Biological Diversity were addressed at the March 2013 Atlantic SRG meeting. NMFS and the SRG delineated a process that will ensure SRG review of new or revised abundance and mortality estimates and methods prior to their release at other forums (e.g., Take Reduction Teams).

Dated: May 23, 2012.
Donna S. Wieting,
Director, Office of Protected Resources, National Marine Fisheries Service.

[FR Doc. 2013-12869 Filed 5-29-13; 8:45 am]

BILLING CODE 3510-22-P